NUCLEAR REGULATORY COMMISSION

[Docket Nos. 50-387 and 50-388; NRC-2009-0152]

PPL Susquehanna, LLC; Notice of Withdrawal of Application for Amendment to Facility Operating License

The U.S. Nuclear Regulatory Commission (the Commission) has granted the request of PPL Susquehanna, LLC, (the licensee) to withdraw its March 28, 2008, application for proposed amendment to Facility Operating License Nos. NPF-14 and NPF-22 for the Susquehanna Steam Electric Station, Units 1 and 2, located in Luzerne County, Pennsylvania.

The proposed change would have modified PPL Susquehanna, LLC, Units 1 and 2 (PPL) Technical Specifications (TSs) TS 3.6.4.1 “Secondary Containment,” and TS 3.6.4.3 “Standby Gas Treatment System,” as follows:

(1) To add a new Required Action option for TS 3.6.4.1 Condition A, to allow additional time to restore secondary containment to OPERABLE when the inoperability is not caused by a loss of secondary containment integrity,

(2) To add a new Actions note TS 3.6.4.1, to allow opening of secondary containment heating ventilation and air conditioning duct access doors and opening of a secondary containment equipment ingress/egress door (102 door) under administrative controls provided no movement of irradiated fuel assemblies in the secondary containment, CORE ALTERATIONS, or operations with a potential for draining the reactor vessel (OPDRVs) are in progress,

(3) To modify the existing note to Surveillance Requirement (SR) 3.6.4.1.3 and add a second note to this same SR, to expand upon the existing SR exception note by adding other types of door access openings that occur for entry and exit of people or equipment, and

(4) The administrative change to remove a one-time allowance in TS 3.6.4.1 and TS 3.6.4.3 “Standby Gas Treatment System [SGTS],” that extended the allowable Completion Time for Secondary Containment inoperable and two SGTS subsystems inoperable in MODE 1, 2, or 3. This allowance was previously incorporated into both Unit 1 and Unit 2 TSs to facilitate Reactor Recirculating Fan Damper Motor work.

The Commission had previously issued a Notice of Consideration of Issuance of Amendment published in the Federal Register on May 6, 2008, (73 FR 25044). However, by letter dated March 27, 2009, the licensee withdrew the proposed change.

For further details with respect to this action, see the application for amendment dated March 28, 2008, and the licensee's letter dated March 27, 2009, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management System (ADAMS) Public Electronic Reading Room on the internet at the NRC Web site, http://www.nrc.gov/reading-rm/adams.html. Persons who do not have access to ADAMS or who encounter problems in accessing the documents located in ADAMS should contact the NRC PDR Reference staff by telephone at 1-800-397-4209, or 301-415-4737 or by e-mail to pdr.resource@nrc.gov.

Dated at Rockville, Maryland, this 30th day of March 2009.
For the Nuclear Regulatory Commission.
Bhalchandra K. Vaidya,
Project Manager, Plant Licensing Branch I-1, Division of Operating Reactor Licensing, Office of Nuclear Reactor Regulation.

[FR Doc. E9-7810 Filed 4-7-09; 8:45 am]

BILLING CODE 7590-01-P